DEPARTMENT OF LABOR

Employment and Training Administration

[TA-W-40,292]

Exolon-Esk Company, Tonawanda, New York; Including Employees of Exolon-Esk Company Located in Illinois; Amended Certification Regarding Eligibility To Apply for Worker Adjustment Assistance

In accordance with section 223 of the Trade Act of 1974 (19 USC 2273) the Department of Labor issued a Certification of Eligibility to Apply for Worker Adjustment Assistance on January 22, 2002, applicable to workers of Exolon-Esk Company, Tonawanda, New York. The notice was published in the Federal Register on February 5, 2002 (67 FR 5294).

At the request of the State agency, the Department reviewed the certification for workers of the subject firm. New information shows that worker separations occurred involving employees of the Tonawanda, New York facility of Exolon-Esk Company located in Illinois. These employees were engaged in employment related to the production of man-made abrasives, silicon carbide and aluminum oxide at the Tonawanda, New York location of the subject firm.

Based on these findings, the Department is amending this certification to include employees of the Tonawanda, New York facility of Exolon-Esk Company located in Illinois.

The intent of the Department's certification is to include all workers of Exolon-Esk Company who were adversely affected by increased imports.

The amended notice applicable to TA-W-40,292 is hereby issued as follows:

“All workers of Exolon-Esk Company, Tonawanda, New York, including employees of Exolon-Esk Company, Tonawanda, New York, located in Illinois, who became totally or partially separated from employment on or after April 13, 2001, through January 22, 2004, are eligible to apply for adjustment assistance under section 223 of the Trade Act of 1974.”

Signed at Washington, DC this 16th day of April, 2002.
Linda G. Poole,
Certifying Officer, Division of Trade Adjustment Assistance.

[FR Doc. 02-10889 Filed 5-1-02; 8:45 am]

BILLING CODE 4510-30-M